DEPARTMENT OF ENERGY

Federal Energy Regulatory Commission

[Docket No. CP25-551-000]

Great Basin Gas Transmission Company; Notice of Schedule for the Preparation of an Environmental Assessment for the Gabs Lateral NASF Relocation Project

On September 29, 2025, Great Basin Gas Transmission Company (Great Basin) filed an application in Docket No. CP25-551-000 requesting a Certificate of Public Convenience and Necessity pursuant to Section 7(c) and Authorization pursuant to Section 7(b) of the Natural Gas Act to construct and operate and abandon certain natural gas pipeline facilities. The proposed project is known as the Gabbs Lateral Naval Air Station Fallon (NASF) Relocation Project (Project) and would support the relocation of its existing Gabbs Lateral through the installation of approximately 32.6 miles of replacement pipeline and the abandonment in-place or by removal of approximately 20.9 miles of pipeline in Mineral and Nye Counties, Nevada. The Project would not provide any incremental capacity. Additionally, the Project would accommodate the U.S. Navy's expansion of the Naval Air Station Fallon.

On October 10, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1762338293.

Schedule for Environmental Review

Issuance of EA—March 13, 2026

90-day Federal Authorization Decision Deadline ²—June 11, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Project would accommodate the U.S. Navy's congressionally authorized Fallon Range Training Complex Modernization Project. Great Basin proposes to: (1) install about 18.8 miles of new 8-inch-diameter pipeline and 13.8 miles of new 6-inch-diameter pipeline; and (2) abandon in place or by removal about 5.4 miles of existing 8-inch-diameter pipe and 15.8 miles of existing 6-inch-diameter pipe. Additionally Great Basin would install two above-ground valve assemblies, replace a thermoelectric generator with a natural gas burning generator for the cathodic protection system, and relocate an appurtenant facility.

Background

On October 9, 2024, the Commission issued a Notice of Scoping Period Requesting Comments on Environmental Issues for the Proposed Gabbs Lateral FNAS Relocation Project (Notice of Scoping). The Notice of Scoping was issued during the pre-filing review of the Project in Docket No. PF24-6-000 and was sent to affected landowners; federal, state, and local government agencies; elected officials; environmental and public interest groups; Native American tribes; other interested parties; and local libraries and newspapers. In response to the Notice of Scoping, the Commission received comments from Joe Burgess and the Nevada Department of Wildlife. The commenters requested that an environmental analysis should be completed and that baseline surveys of Bureau of Land Management (BLM) sensitive and state listed species should be conducted. All substantive comments will be addressed in the EA.

The BLM and the U.S. Navy are cooperating agencies in the preparation of the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

For public inquiries and assistance with making filings such as interventions, comments, or requests for rehearing, contact the Office of Public Participation at (202) 502-6595 or OPP@ferc.gov.

Additional information about the Project is available from the FERC website (www.ferc.gov). Using the “eLibrary” link, select “General Search” from the eLibrary menu, enter the selected date range and “Docket Number” excluding the last three digits (i.e., CP25-551), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 18, 2025.
Debbie-Anne A. Reese,
Secretary.

[FR Doc. 2025-20674 Filed 11-21-25; 8:45 am]

BILLING CODE 6717-01-P